FEDERAL COMMUNICATIONS COMMISSION

47 CFR Part 54

[WC Docket Nos. 18-143, 10-90, 14-58; FCC 19-95; FRS 17234]

The Uniendo a Puerto Rico Fund and the Connect USVI Fund, Connect America Fund, ETC Annual Reports and Certifications; Correction

AGENCY: Federal Communications Commission.

ACTION: Notification of intent to correct.

SUMMARY: This document announces that the Commission will correct an error in the regulatory text of a Federal Register document that took major steps to promote the deployment of advanced, hardened networks in the Territories by allocating nearly a billion dollars in Federal universal service support in Puerto Rico and the U.S. Virgin Islands once an effective date is established for the relevant section. The summary was published in the Federal Register on November 7, 2019.

DATES: When the Commission publishes a document in the Federal Register announcing the effective date of the sections published 84 FR 59937 (November 7, 2019), it will also correct this error.

FOR FURTHER INFORMATION CONTACT: Alexander Minard, Wireline Competition Bureau, (202) 418-7400.

SUPPLEMENTARY INFORMATION: This summary contains a correction to the regulatory text of a Federal Register document, 84 FR 59937, November 7, 2019. The full text of the Commission's Report and Order and Order on Reconsideration in WC Docket Nos. 18-143, 10-90, 14-58; FCC 19-95, released on September 30, 2019 is available for public inspection during regular business hours in the FCC Reference Center, 45 L Street NE, Washington, DC 20554.

Correction

In final rule FR Doc. 2019-22842, published November 7, 2019 (84 FR 59937), on page 59964, in the first column, in amendatory instruction 3, paragraph (b)(7) is corrected to read as follows:

§ 54.316 [Corrected]

(b) * * *

(7) Recipients of Uniendo a Puerto Rico Fund Stage 2 fixed and Connect USVI Fund fixed Stage 2 fixed support shall provide: On an annual basis by the last business day of the second calendar month following each service milestone in § 54.1506, a certification that by the end of the prior support year, it was offering broadband meeting the requisite public interest obligations specified in § 54.1507 to the required percentage of its supported locations in Puerto Rico and the U.S. Virgin Islands as set forth in § 54.1506. The annual certification shall quantify the carrier's progress toward or, as applicable, completion of deployment in accordance with the resilience and redundancy commitments in its application and in accordance with the detailed network plan it submitted to the Wireline Competition Bureau.

Federal Communications Commission.
Marlene Dortch,
Secretary.

[FR Doc. 2020-25145 Filed 12-4-20; 8:45 am]

BILLING CODE 6712-01-P